DEPARTMENT OF JUSTICE

[OMB No. 1121-NEW]

Agency Information Collection Activities: New Proposed Collection; Comments Requested: 2013 Census of Federal, State, and Local Law Enforcement Agencies

ACTION: 30-day notice.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. This proposed information collection was previously published in the Federal Register Volume 78, Number 207, pages 64012-64013, on October 25, 2013, allowing for a 60 day comment period.

The purpose of this notice is to allow for an additional 30 days for public comment until March 27, 2014. This process is conducted in accordance with 5 CFR 1320.10.

Written comments and/or suggestions regarding the items contained in this notice, especially the estimated public burden or associated response time, should be directed to the Office of Management and Budget, Officer of Information and Regulatory Affairs, Attention Department of Justice Desk Officer, Washington, DC 20503. The best way to ensure your comments are received is to email them to OIRA_submission@omb.eop.gov. All comments should reference the eight digit OMB number or the title of the collection.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Evaluate whether, and if so, how the quality, utility, and clarity of the information to be collected can be enhanced; and

—Ways to minimize the burden of the collection of information on those who are to respond, including through the use of appropriate automated, electronic, mechanical, or other technological collection techniques or other forms of information technology, e.g., permitting electronic submission of responses.

Overview of This Information Collection

(1) Type of Information Collection: New collection

(2) Title of the Form/Collection: 2013 Census of Federal State, and Local Law Enforcement Agencies (Census).

(3) Agency form number, if any, and the applicable component of the Department of Justice sponsoring the collection: The form numbers is CJ-38. The applicable component within the Department of Justice is the Bureau of Justice Statistics, Office of Justice Programs.

(4) Affected public who will be asked or required to respond, as well as a brief abstract: Primary: Federal, State, and Local Government. This information collection is a census of federal, state, and local publically-funded law enforcement agencies. The affected public that will be asked to respond will include approximately 18,000 State, regional, county, municipal, campus, and tribal law enforcement agencies that employ the equivalent of one full-time sworn personnel with general arrest powers and roughly 75 federal law enforcement agencies that employ personnel authorized to carry a firearm and make arrests. The information will provide national statistics on the number of sworn and civilian personnel by type of agency and functions performed by each agency.

(5) An estimate of the total number of respondents and the average amount of time for a respondent to respond: It is estimated that 18,000 state and local respondents will take an average of 60 minutes to complete form CJ-38. In addition, 75 federal respondents will take an average of 30 minutes to complete a shortened version of the CJ-38 (CJ-38F).

(6) An estimate of the total public burden (in hours) associated with the collection: There are an estimated 18,038 total annual burden hours associated with this collection.

If additional information is required contact: Jerri Murray, Department Clearance Officer, United States Department of Justice, Justice Management Division, Policy and Planning Staff, Two Constitution Square, 145 N Street NE., Suite 1407B, Washington, DC 20530.

Dated: February 19, 2014.
Jerri Murray,
Department Clearance Officer for PRA, U.S. Department of Justice.

[FR Doc. 2014-03952 Filed 2-24-14; 8:45 am]

BILLING CODE 4410-18-P